POSTAL SERVICE BOARD OF GOVERNORS

Sunshine Act Meeting

Time and Date: 1 p.m., Tuesday, December 2, and 8:30 a.m., Wednesday, December 3, 2008.

Place: Washington, DC, at U.S. Postal Service Headquarters, 475 L'Enfant Plaza, SW.

Status: Closed.

Matters To Be Considered:

Tuesday, December 2 at 1 p.m. (Closed)

1. Financial Matters.

2. Strategic Issues.

3. Pricing.

4. Personnel Matters and Compensation Issues.

5. Governors' Executive Session—Discussion of prior agenda items and Board Governance.

Wednesday, December 3 at 8:30 a.m. (Closed)—(if needed)

1. Continuation of Tuesday's closed session agenda.

Contact Person for More Information: Julie S. Moore, Secretary of the Board, U.S. Postal Service, 475 L'Enfant Plaza, SW., Washington, DC 20260-1000. Telephone (202) 268-4800.

Julie S. Moore,
Secretary.

[FR Doc. E8-28375 Filed 11-25-08; 11:15 am]

BILLING CODE 7710-12-P